DEPARTMENT OF LABOR

Employment and Training Administration

[TA-W-58,064]

VF Jeanswear Limited Partnership A Subsidiary Of VF Corporation Wilson, NC; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on October 17, 2005, applicable to workers of VF Jeanswear Limited Partnership, a subsidiary of VF Corporation, Wilson, North Carolina. The notice will be published soon in the Federal Register.

At the request of the State agency, the Department reviewed the certification for workers of the subject firm. The workers are engaged in the production of men's, women's, and children's pants and jeans.

New findings show that there was a previous certification, TA-W-53,000A, issued on October 14, 2003, for workers of VF Jeanswear Limited Partnership, a subsidiary of VF Corporation, Wilson, North Carolina who were engaged in employment related to the production of men's, women's, and children's pants and jeans. That certification expired October 14, 2005. To avoid an overlap in worker group coverage, the certification is being amended to change the impact date from October 15, 2004 to October 15, 2005, for workers of the subject firm.

The amended notice applicable to TA-W-58,064 is hereby issued as follows:

All workers of VF Jeanswear Limited Partnership, a subsidiary of VF Corporation, Wilson, North Carolina who became totally or partially separated from employment on or after October 15, 2005, through October 17, 2007, are eligible to apply for adjustment assistance under section 223 of the Trade Act of 1974, and are also eligible to apply for alternative trade adjustment assistance under section 246 of the Trade act of 1974.

Signed at Washington, DC, this 31st day of October 2005.
Richard Church,
Certifying Officer, Division of Trade Adjustment Assistance.

[FR Doc. 05-22326 Filed 11-8-05; 8:45 am]

BILLING CODE 4510-30-P